DEPARTMENT OF THE INTERIOR

Bureau of Ocean Energy Management

[Docket No. BOEM-2021-0001]

Gulf of Mexico, Outer Continental Shelf (OCS), Oil and Gas Lease Sale 257

AGENCY: Bureau of Ocean Energy Management, Interior.

ACTION: Notice of availability of a record of decision.

SUMMARY: The Bureau of Ocean Energy Management (BOEM) is announcing the availability of a Record of Decision for proposed Gulf of Mexico (GOM) regionwide oil and gas Lease Sale 257. This Record of Decision identifies BOEM's selected alternative for proposed Lease Sale 257, which is analyzed in the Gulf of Mexico OCS Lease Sale: Final Supplemental Environmental Impact Statement 2018 (2018 GOM Supplemental EIS).

ADDRESSES: The Record of Decision is available on BOEM's website at http://www.boem.gov/nepaprocess/.

FOR FURTHER INFORMATION CONTACT: For more information on the Record of Decision, you may contact Dr. Arie Kaller, Regional Supervisor, Office of the Environment, by telephone at 504-736-2983, or by email at arie.kaller@boem.gov.

SUPPLEMENTARY INFORMATION: In the Gulf of Mexico OCS Oil and Gas Lease Sales: 2017-2022; Gulf of Mexico Lease Sales 249, 250, 251, 252, 253, 254, 256, 257, 259, and 261—Final Multisale Environmental Impact Statement and 2018 GOM Supplemental EIS, BOEM evaluated five alternatives for proposed Lease Sale 257. We have summarized these alternatives below, noting some additional blocks that may be excluded due to their lease status at the time of this decision:

Alternative A—Regionwide Outer Continental Shelf (OCS) Lease Sale: This is BOEM's preferred alternative. This alternative would allow for a proposed GOM regionwide lease sale encompassing all three planning areas: Western Planning Area (WPA); Central Planning Area (CPA); and a small portion of the Eastern Planning Area (EPA) not under congressional moratorium. Under this alternative, BOEM would offer for lease all available, unleased blocks within the proposed regionwide lease sale area for oil and gas operations with the following exceptions: whole and portions of blocks deferred by the Gulf of Mexico Energy Security Act of 2006; blocks that are adjacent to or beyond the United States Exclusive Economic Zone in the area known as the northern portion of the Eastern Gap; whole and partial blocks within the boundary of the Flower Garden Banks National Marine Sanctuary as of the July 2008 Memorandum on Withdrawal of Certain Areas of US OCS from Leasing Disposition; depth-restricted, segregated portions of Block 299, Main Pass Area, South and East Addition (Louisiana Leasing Map LA10A); blocks where the lease status is currently under appeal; and whole or partial blocks that have received bids in previous lease sales, where the bidder has sought reconsideration of BOEM's rejection of their bid, unless the reconsideration request is fully resolved at least 30 days prior to the publication of the Final Notice of Sale. We will list the unavailable blocks in Section I of the Final Notice of Sale for proposed Lease Sale 257, which will be available on www.boem.gov/Sale-257 once it is published. The proposed lease sale area encompasses about 91.93 million acres (ac), with approximately 80.8 million ac available for lease. As described in the 2018 GOM Supplemental EIS, the estimated amounts of resources projected to be leased, discovered, developed, and produced as a result of the proposed regionwide lease sale are between 0.211 and 1.118 billion barrels of oil (BBO) and 0.547 and 4.424 trillion cubic feet (Tcf) of natural gas.

Alternative B—Regionwide OCS Lease Sale Excluding Available, Unleased Blocks in the WPA Portion of the Proposed Lease Sale Area: This alternative would offer for lease all available, unleased blocks within the CPA and EPA portions of the proposed lease sale area for oil and gas operations, with the following exceptions: Whole and portions of blocks deferred by the Gulf of Mexico Energy Security Act of 2006; blocks that are adjacent to or beyond the United States Exclusive Economic Zone in the area known as the northern portion of the Eastern Gap; depth-restricted, segregated portions of Block 299, Main Pass Area, South and East Addition (Louisiana Leasing Map LA10A); blocks where the lease status is currently under appeal; and whole or partial blocks that have received bids in previous lease sales, where the bidder has sought reconsideration of BOEM's rejection of their bid, unless the reconsideration request is fully resolved at least 30 days prior to publication of the Final Notice of Sale. The proposed CPA/EPA lease sale area encompasses about 63.35 million ac, with approximately 53 million ac available for lease. The estimated amounts of resources projected to be leased, discovered, developed, and produced as a result of the proposed lease sale under Alternative B are 0.185-0.970 BBO and 0.441-3.672 Tcf of gas.

Alternative C—Regionwide OCS Lease Sale Excluding Available, Unleased Blocks in the CPA and EPA Portions of the Proposed Lease Sale Area: This alternative would offer for lease all available, unleased blocks within the WPA portion of the proposed lease sale area for oil and gas operations, with the following exceptions: Whole and partial blocks within the boundary of the Flower Garden Banks National Marine Sanctuary as of the July 2008 Memorandum on Withdrawal of Certain Areas of US OCS from Leasing Disposition; blocks where the lease status is currently under appeal; and whole or partial blocks that have received bids in previous lease sales, where the bidder has sought reconsideration of BOEM's rejection of their bid, unless the reconsideration request is fully resolved at least 30 days prior to publication of the Final Notice of Sale. The proposed WPA lease sale area encompasses about 28.58 million ac, with approximately 26.9 million ac available for lease. The estimated amounts of resources projected to be leased, discovered, developed, and produced as a result of the proposed lease sale under Alternative C are 0.026-0.148 BBO and 0.106-0.752 Tcf of gas.

Alternative D—Alternative A, B, or C, with the Option to Exclude Available, Unleased Blocks Subject to the Topographic Features, Live Bottom (Pinnacle Trend), and/or Blocks South of Baldwin County, Alabama, Stipulations: This alternative could be combined with any of the action alternatives above (i.e., Alternative A, B, or C) and would allow the flexibility to offer leases under any alternative with additional exclusions. Under Alternative D, the decisionmaker could exclude from leasing any available, unleased blocks in Alternative A subject to any one or a combination of the following stipulations: Topographic Features Stipulation; Live Bottom Stipulation; and Blocks South of Baldwin County, Alabama, Stipulation (not applicable to Alternative C). This alternative considered blocks subject to these stipulations because these areas have been emphasized in scoping, can be geographically defined, and adequate information exists regarding their ecological importance and sensitivity to OCS oil- and gas-related activities.

A total of 207 blocks within the CPA and 160 blocks in the WPA are affected by the Topographic Features Stipulation. There are currently no identified topographic features protected under this stipulation in the EPA. The Live Bottom Stipulation covers the pinnacle trend area of the CPA, affecting a total of 74 blocks.

Alternative E—No Action: This alternative is not holding proposed regionwide Lease Sale 257 and is identified as the environmentally preferred alternative. Alternative E was not selected because, if it were, revenue would not be collected by the Federal Government nor subsequently disbursed to the States. If the proposed GOM region-wide lease sale were not held, the overall near-term level of OCS oil and gas-related activity in the region would be reduced. However, not holding a single lease sale would not significantly change the overall activity levels in the GOM (i.e., on blocks leased in previous lease sales) and the associated environmental impacts in the near term.

Lease Stipulations—Ten lease stipulations have been adopted for Lease Sale 257. The 2018 GOM Supplemental EIS describes these 10 lease stipulations, which will be included in the Final Notice of Sale Package.

In the Record of Decision for the 2017-2022 Outer Continental Shelf Oil and Gas Leasing: Proposed Final Program, the Secretary of the Interior required the protection of biologically sensitive underwater features in all Gulf of Mexico oil and gas lease sales as programmatic mitigation; therefore, BOEM is adopting the Topographic Features Stipulation and Live Bottom Stipulation and applying them to designated lease blocks in proposed Lease Sale 257.

The additional eight lease stipulations considered for proposed regionwide Lease Sale 257 are the Military Areas Stipulation; the Evacuation Stipulation; the Coordination Stipulation; the Blocks South of Baldwin County, Alabama, Stipulation; the Protected Species Stipulation; the United Nations Convention on the Law of the Sea Royalty Payment Stipulation; the Below Seabed Operations Stipulation; and the Stipulation on the Agreement between the United States of America and the United Mexican States Concerning Transboundary Hydrocarbon Reservoirs in the Gulf of Mexico. The Protected Species Stipulation has been updated due to the completion of the Endangered Species Act consultation with the National Marine Fisheries Service and the issuance of a Biological Opinion in March 2020, addressing OCS oil- and gas-related activities in the Gulf of Mexico, including this lease sale. As noted, BOEM is adopting these ten stipulations as lease terms where applicable and they are enforceable as part of the lease.

Further, Appendix B of the Gulf of Mexico OCS Oil and Gas Lease Sales: 2017-2022; Gulf of Mexico Lease Sales 249, 250, 251, 252, 253, 254, 256, 257, 259, and 261—Final Multisale Environmental Impact Statement provides a list and description of standard post-lease conditions of approval that BOEM or the Bureau of Safety and Environmental Enforcement may require as a result of their plan and permit review processes for the Gulf of Mexico OCS region.

After careful consideration, BOEM selected the preferred alternative (Alternative A) from the 2018 GOM Supplemental EIS, with certain additional blocks excluded due to their status, for proposed Lease Sale 257. BOEM is also adopting 10 lease stipulations and all practicable means of mitigation at the lease sale stage. The preferred alternative meets the purpose of and need for the proposed action, as identified in the 2018 GOM Supplemental EIS, and provides for orderly resource development with protection of human, marine, and coastal environments while also ensuring that the public receives a fair market value for these resources and that free-market competition is maintained.

Authority: This Notice of Availability of a Record of Decision is published pursuant to the regulations (40 CFR part 1505) implementing the provisions of the National Environmental Policy Act of 1969, as amended (42 U.S.C. 4321 et seq.).

Amanda Lefton,
Director, Bureau of Ocean Energy Management.

[FR Doc. 2021-19174 Filed 9-3-21; 8:45 am]

BILLING CODE 4310-MR-P